DEPARTMENT OF THE INTERIOR

Fish and Wildlife Service

[FWS-R8-R-2012-N023; FXRS12610800000V2-123-FF08RSRC00]

Llano Seco Riparian Sanctuary Unit Restoration and Pumping Plant/Fish Screen Facility Protection Project, CA; Draft Environmental Impact Statement and Environmental Impact Report

AGENCY: Fish and Wildlife Service, Interior.

ACTION: Notice of availability; request for public comments.

SUMMARY: We, the U.S. Fish and Wildlife Service (Service), announce the availability of a draft environmental impact statement and environmental impact report (EIS/EIR) for the Llano Seco Riparian Sanctuary Unit Restoration and Pumping Plant/Fish Screen Facility Protection Project in Glenn and Butte Counties, California. The proposed project includes riparian restoration and protection of the Princeton-Cordora-Glenn and Provident Irrigation Districts (PCGID-PID) pumping plant and fish screen facility. The draft EIS/EIR, which we prepared in cooperation with the California Department of Fish and Game (CDFG) and now announce in accordance with the National Environmental Policy Act of 1969 (NEPA), describes the alternatives identified to protect the pumping plant and fish screen facility located at river mile 178.5 on the Sacramento River, and to restore the Riparian Sanctuary Unit of the Sacramento River National Wildlife Refuge.

DATES: We must receive written comments at the address below on or before June 25, 2012.

ADDRESSES: The draft EIS/EIR is available at:

• Sacramento National Wildlife Refuge Complex, 752 County Road 99 W, Willows, CA 95988, (530) 934-7814.

• River Partners Office, 580 Vallombrosa Avenue, Chico, CA 95926, (530) 894-5401.

• Orland Free Library, 333 Mill Street, Orland, CA 95963.

• Chico Branch Library, 1108 Sherman Avenue, Chico, CA 95926.

• CDFG Office, 629 Entler Ave, Suite 12, Chico, CA 95928.

• PCGID-PID Office, 258 South Butte Street, Willows, CA 95988, (530) 934-4801.

• Internet: www. www.fws.gov/sacramentovalleyrefuges/ and http://www.riverpartners.org/where-we-work/sanctuary/documents.html.

Written comments and requests for information may be sent to: Daniel W. Frisk, Project Leader, Sacramento National Wildlife Refuge Complex, U.S. Fish and Wildlife Service, 752 County Road 99 W, Willows, CA 95988. Alternatively you may send written comments or requests by fax to (530) 934-7814, or by email to dan_frisk@fws.gov. Please indicate that your comments refer to the Riparian Sanctuary Restoration and Pumping Plan/Fish Screen Facility Protection Project.

FOR FURTHER INFORMATION CONTACT: Kelly Moroney, Refuge Manager, Sacramento River National Wildlife Refuge, (530) 934-2801 (phone); kelly_moroneyr@fws.gov (email), or; Helen Swagerty, River Partners, (530) 894-5401 (phone); hswagerty@riverpartners.org (email).

SUPPLEMENTARY INFORMATION:

Background

The Llano Seco Riparian Sanctuary Unit was acquired by the Service in 1991 and added to the Sacramento River National Wildlife Refuge. The Service acquired the Llano Seco Riparian Sanctuary Unit as part of the Joint Management Agreement between Parrot Investment Co., The Nature Conservancy, California Department of Fish and Game, and the Service to cooperatively manage lands on the Llano Seco Ranch. The Llano Seco Riparian Sanctuary Unit is one piece of the larger Llano Seco Ranch, and was cleared of riparian vegetation for agricultural production by the previous landowner during the 1970s. Although the property has been out of agricultural production for close to 15 years, the habitat remains dominated by nonnative and invasive noxious weeds. Currently, just over 200 acres is farmed to dryland row crops to help control nonnative weeds.

Prior to acquisition by the Service, rock revetment was placed on the north end of the Llano Seco Riparian Sanctuary Unit by the Department of Water Resources in 1985 and 1986. The rock was placed in order to lock the Sacramento River in place ensuring that flood flows would continue to be diverted from the Sacramento River through the Goose Lake overflow structure and into the Butte Basin. When the Service acquired the ranch property in 1991, we did so with the understanding that our management activities would not impact the Goose Lake overflow structure that diverts flood water into the Butte Basin.

Since the placement of rock revetment in 1986, the natural riverbank that is south of the revetment has eroded approximately 600 feet. The erosion on refuge property is directly across from the PCGID-PID pumping plant and fish screening facility. In 1999, the PCGID-PID consolidated three pumping plants into one new facility equipped with state-of-the-art fish screens. The fish-screening efficiency of the new PCGID-PID pumping plant is now endangered by the bank erosion on the refuge property and the migration of the Sacramento River. Although the rock revetment on the north edge of refuge property is decades old and eroding, it plays a key role in protecting the PCGID-PID pumping plant. As the bank erodes, the angle of flow and velocity of the water passing the screens will change, trapping fish against the screen rather than sweeping them past. Without some type of protection, it is likely the bank will continue to erode and the pumping plant facility will fail to meet guidelines for operation of the pumping-plant fish screens that were published by the National Marine Fisheries Service of National Oceanic and Atmospheric Administration (Department of Commerce).

Alternatives

To address these issues, we identified and analyzed four alternatives in the draft EIS/EIR:

Alternative 1: No-Action Alternative

Under the No-Action Alternative, only the ongoing removal and management of invasive plant species would occur at the Riparian Sanctuary. No active restoration of native plants would occur. Maintenance activities for the PCGID-PID pumping plant and fish screens would continue, but no new actions would be taken to prevent river meander.

Alternative 2: Spur Dikes and Site-Specific Plantings

Under Alternative 2, bank protection measures would consist of installing eight rock spur dikes along the Sacramento River on the northern side of the Riparian Sanctuary. The dike field would extend about 2,000 feet in length. The dikes would be spaced 225 feet apart and each dike would extend 75 feet into the river. Restoration activities on the Riparian Sanctuary would consist of site-specific plantings across 400 acres of the site. Restoration activities would include preparing the site, planting native plants, irrigating plants for the first 3 years, and monitoring and managing the restored area.

Alternative 3: Traditional Riprap and Site-Specific Plantings

Under Alternative 3, bank protection measures would consist of installing riprap with or without a low berm along the Sacramento River on the northern side of the Riparian Sanctuary. Riprap revetment would be installed from the end of the existing riprap upstream for 2,500 to 2,700 feet to a point almost directly across from the pumping plant and fish screen facility, to protect the riverbank from further erosion. In addition to the site-specific plantings described under Alternative 2, revegetation is proposed on both the bank and low berm areas under this alternative.

Alternative 4: Traditional Riprap With Upstream Rock Removal and Site-Specific Plantings

Under Alternative 4, bank protection measures would consist of installing riprap with or without a low berm along the Sacramento River on the north side of the Riparian Sanctuary as described in Alternative 3, including revegetation on both the bank and low berm. Riparian restoration would take place as described in Alternative 2. In addition, under Alternative 4, we proposed to remove approximately 2,300 linear feet of upstream bank revetment on State- and Service-managed lands along the north side of the peninsula upstream of the Riparian Sanctuary. Removal of the revetment would encourage a natural progression of streambank erosion, and the eventual cutoff of an oxbow. This cut off would allow the river to flow parallel to the pumping plant and fish screen facility, which is the desired alignment for the fish screen to properly function. Installing traditional riprap on the northern side of the Riparian Sanctuary would hold the river in place to prevent it from migrating further east, away from the facility.

NEPA Compliance

The EIS/EIR discusses the direct, indirect, and cumulative impacts of the alternatives on biological resources, cultural resources, land use, air quality, water quality, water resources, and other environmental resources. It also identifies appropriate mitigation measures for adverse environmental effects.

Public Review

We are conducting public review of the EIS/EIR in accordance with the requirements of NEPA, as amended (42 U.S.C. 4321 et seq.), its implementing regulations (40 CFR parts 1500-1508), other applicable regulations, and our procedures for compliance with those regulations. The EIS/EIR meets the requirements of both NEPA and the California Environmental Quality Act (CEQA). The California Department of Fish and Game is the CEQA lead agency. We provide this notice under regulations implementing NEPA (40 CFR 1506.6).

Public Meeting

We will hold one public meeting to solicit comments on the draft EIS/EIR. We will send a separate notice to the public that identifies the time, date, and location of the meeting.

Public Comments

We invite the public to comment on the EIS/EIR during the comment period. Before including your address, phone number, email address, or other personal identifying information in your comment, you should be aware that your entire comment—including your personal identifying information—may be made publicly available at any time. While you can ask us in your comment to withhold your personal identifying information from public review, we cannot guarantee that we will be able to do so. We will use the comments to prepare a final EIS/EIR. A decision will be made no sooner than 30 days after the publication of the final environmental impact statement.

Alexandra Pitts,
Acting Regional Director, Pacific Southwest Region.

[FR Doc. 2012-10777 Filed 5-3-12; 8:45 am]

BILLING CODE 4310-55-P